INTERNATIONAL TRADE COMMISSION

[Investigation Nos. 701-TA-618-619 and 731-TA-1441-1444 (Review)]

Carbon and Alloy Steel Threaded Rod From China, India, Taiwan, and Thailand

Determinations

On the basis of the record ¹ developed in the subject five-year reviews, the United States International Trade Commission (“Commission”) determines, pursuant to the Tariff Act of 1930 (“the Act”), that revocation of the countervailing duty orders on carbon and alloy steel threaded rod from China and India and the antidumping duty orders on carbon and alloy steel threaded rod from China, India, Taiwan, and Thailand would be likely to lead to continuation or recurrence of material injury to an industry in the United States within a reasonably foreseeable time.

¹ The record is defined in § 207.2(f) of the Commission's Rules of Practice and Procedure (19 CFR 207.2(f)).

Background

The Commission instituted these reviews on November 1, 2024 (89 FR 87409) and determined on February 4, 2025, that it would conduct expedited reviews (90 FR 11623, March 10, 2025).

The Commission made these determinations pursuant to section 751(c) of the Act (19 U.S.C. 1675(c)). It completed and filed its determinations in these reviews on June 16, 2025. The views of the Commission are contained in USITC Publication 5637 (June 2025), entitled Carbon and Alloy Steel Threaded Rod from China, India, Taiwan, and Thailand: Investigation Nos. 701-TA-618-619 and 731-TA-1441-1444 (Review).

By order of the Commission.

Issued: June 16, 2025.
Susan Orndoff,
Supervisory Attorney.

[FR Doc. 2025-11286 Filed 6-18-25; 8:45 am]

BILLING CODE 7020-02-P